DEPARTMENT OF TRANSPORTATION

Office of the Secretary

Aviation Proceedings, Agreements Filed the Week Ending July 9, 2011

The following Agreements were filed with the Department of Transportation under the Sections 412 and 414 of the Federal Aviation Act, as amended (49 U.S.C. 1382 and 1384) and procedures governing proceedings to enforce these provisions. Answers may be filed within 21 days after the filing of the application.

Docket Number: DOT-OST-2011-0124.

Date Filed: July 7, 2011.

Parties: Members of the International Air Transport Association.

Subject: TC2 Within Africa, Within Middle East, between Middle East and Africa, Mail Vote 685 Adoption, Composite Resolution 071c, e-Tariffs, 6-24 June 2011.

Intended Effective Date: October 1, 2011.
Renee V. Wright,
Program Manager, Docket Operations, Federal Register Liaison.

[FR Doc. 2011-18123 Filed 7-18-11; 8:45 am]

BILLING CODE 4910-9X-P